NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 15, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Health and Human Services, Centers for Medicare and Medicaid Services (N1-440-03-1, 4 items, 4 temporary items). Paper and electronic records relating to Y2K efforts, including such matters as policy and planning, project administration, system testing and verification, and contractor activities. Also included are electronic copies of records created using electronic mail and word processing. Paper copies of these files were previously approved for disposal. This schedule authorizes the agency to apply the proposed disposition instructions to any recordkeeping medium.

2. Department of Homeland Security, Transportation Security Administration (N1-560-03-2, 17 items, 14 temporary items). Reports, statistics, planning records, property accountability records, personal property records, telephone directories, correspondence management records, issuances, reading files, broadcast e-mail messages, reference files, and other records, accumulated primarily by the Office of Finance and Administration. Also included are electronic copies of records created using electronic mail and word processing. Records proposed for permanent retention include recordkeeping copies of records created to comply with the provisions of the Government in the Sunshine Act, records of advisory, interagency, and international committees sponsored by the agency, and directives.

3. Department of Homeland Security, Transportation Security Administration (N1-560-03-3, 10 items, 8 temporary items). Records relating to internal investigations and inspections, including reports, memorandums, correspondence, and statistical data. Also included are electronic copies of records created using electronic mail and word processing. Proposed for permanent retention are recordkeeping copies of final, signed directives and statistical data and other records relating to trends in transportation security.

4. Department of Justice, Federal Bureau of Investigation (N1-65-03-4, 3 items, 3 temporary items). Work papers and final reports documenting routine inspections of FBI programs and field offices. Electronic copies of records created using electronic mail and word processing are included.

5. Department of Justice, Bureau of Alcohol, Tobacco, Firearms, and Explosives (N1-436-03-4, 5 items, 5 temporary items). Master files, outputs, and documentation associated with the Relief of Disabilities System, an electronic system used to monitor and track the status of applications for the restoration of Federal firearms and explosives privileges. Also included are electronic copies of records created using electronic mail and word processing.

6. Department of the Treasury, U. S. Mint (N1-104-03-11, 3 items, 3 temporary items). Master files, outputs, and documentation associated with the Die Information System, an electronic system which tracks the life of dies used to strike coins and other numismatic products.

7. Department of the Treasury, U.S. Mint (N1-104-03-12, 4 items, 4 temporary items). Inputs, outputs, master files, and system documentation associated with the Pallet Tracking System, an electronic system which tracks coin shipment pallets.

8. National Archives and Records Administration, Electronic and Special Media Records Services Division (N2-381-03-1, 1 item, 1 temporary item). Office of Economic Opportunity data file tabulations of 1960 Census data by sex, race, and marital status. Records were accessioned into the National Archives, but cannot be accessed due to technical problems.

9. Office of Management and Budget, Office of Information and Regulatory Affairs (N1-51-03-1, 1 item, 1 temporary item). The eGov Central Web site used by the E-Gov Initiative project team and partners to communicate and collaborate on-line.

10. Office of Navajo and Hopi Indian Relocation (N1-220-03-04, 3 items, 2 temporary items). Electronic copies of records created using electronic mail and word processing that are associated with files relating to housing repair programs, 1982-1987. Recordkeeping copies of these files are proposed for permanent retention.

11. Small Business Administration, Office of Government Contracting and Business Development (N1-309-03-11, 7 items, 7 temporary items). Inputs, outputs, master files, documentation, and backups associated with the Size Case Log Reporting System, an electronic system which tracks all requests for size determinations of small businesses. Also included are electronic copies of documents created using electronic mail and word processing.

Dated: October 15, 2003.
Michael J. Kurtz,
Assistant Archivist for Record Services—Washington, DC.

[FR Doc. 03-27205 Filed 10-28-03; 8:45 am]

BILLING CODE 7515-01-P